FEDERAL MARITIME COMMISSION

[Docket No. 14-15]

Ngobros and Company Nigeria Limited v. Oceane Cargo Link, LLC, and Kingston Ansah, Individually; Notice of Filing of Complaint and Assignment

Notice is given that a complaint has been filed with the Federal Maritime Commission (Commission) by Ngobros and Company Nigeria Limited (NCNL), hereinafter “Complainant,” against Ocean Cargo Link, LLC (OCL) and Kingston Ansah, hereinafter “Respondents.” Complainant states that it is a Nigerian Limited Liability Company. Complainant alleges that Respondent OCL is a license ocean freight forwarder and non-vessel-operating common carrier and Respondent Kingston Ansah is a “member of OCL” and “has utilized OCL as his alter egos [sic].”

Complainant alleges that Respondents have violated the Shipping Act, 46 U.S.C. 41102(c), in connection with the failed shipment of three vehicles from the United States to Nigeria. Complainant alleges that Respondent shipped the vehicles to the wrong destination resulting in the loss of the vehicles.

Complainant seeks an Order holding that Respondents violated § 41102(c); an Order compelling Respondents “to make reparations to Complainant NCNL in the amount of $180,628.66 for shipping its goods intentionally or unintentionally to a wrong destination and abandoning it there”; “attorney's fees, interests and costs and expenses incurred in this matter”; and “such other and further relief as the Commission deems just and proper.”

The full text of the complaint can be found in the Commission's Electronic Reading Room at www.fmc.gov/14-15.

This proceeding has been assigned to the Office of Administrative Law Judges. The initial decision of the presiding officer in this proceeding shall be issued by December 1, 2015 and the final decision of the Commission shall be issued by June 1, 2016.

Karen V. Gregory,
Secretary.

[FR Doc. 2014-28538 Filed 12-4-14; 8:45 am]

BILLING CODE 6730-01-P